DEPARTMENT OF AGRICULTURE

Forest Service

Information Collection; Request for Comment; West Copper River Delta Sport Fish Use Survey

AGENCY: Forest Service, USDA.

ACTION: Notice.

SUMMARY: In accordance with the Paperwork Reduction Act of 1995, the Forest Service is seeking comments from all interested individuals and organizations on the proposed new information collection, West Copper River Delta Sport Fish Use Survey. The collection is necessary to provide baseline data on the amount and distribution of sport fish use (recreational anglers) on National Forest System lands of the Copper River Delta. The information provided by this survey will assist in managing recreational fishing resources on the Copper River Delta.

DATES: Comments must be received in writing on or before August 16, 2004. Comments received after that date will be considered to the extent practicable.

ADDRESSES: Comments concerning this notice should be addressed to Deyna Kuntzsch, Fisheries Biologist, or Dirk Lang, Fisheries Biologist, Cordova Ranger District, Chugach National Forest, Forest Service, USDA, PO Box 280, Cordova, AK 99574.

Comments also may be submitted via facsimile to (907) 424-7214 or by e-mail to dkuntzsch@fs.fed.us or dwlang@fs.fed.us.

The public may inspect comments received at 612 North 2nd Street, Cordova, Alaska. Visitors are encouraged to call ahead to (907) 424-7661 to facilitate entry to the building.

FOR FURTHER INFORMATION CONTACT: Deyna Kuntzsch, Cordova Ranger District, at (907) 424-4737, or Dirk Lang, Cordova Ranger District, at (907) 424-4753. Individuals, who use telecommunication devices for the deaf (TDD), may call the Federal Relay Service (FRS) at 1-800-877-8339 twenty-four hours a day, every day of the year, including holidays.

SUPPLEMENTARY INFORMATION: Title: West Copper River Delta Sport Fish Use Survey.

OMB Number: 0596-New.

Expiration Date of Approval: N/A.

Type of Request: New.

Abstract: The amount and distribution of sport fish use (recreational angling) on individual streams of the West Copper River Delta is currently unknown. Local managers have observed a recent increase in use and are concerned that concentrated use will impact fisheries resources. Concentrated sport fish use can result in habitat degradation, over harvest of small coho salmon stocks, increased trash/noise/pollution, congested fishing at popular spots, and increased traffic/parking problems at access points. There are two main sport fish user groups: local and non-local. Much of the use may come from non-local anglers that arrive by one of two means: airplane or ferry. Improved ferry service in 2005 may further increase the number of sport fish users on the Copper River Delta. There is a need to collect baseline data on the current amount and distribution of sport fish use on the Copper River Delta.

The Cordova Ranger District proposes to collect the information in three ways: person-to-person interviews at the airport and at ferry terminals, mail-in questionnaires distributed to local residents, and aerial counts of anglers. Respondents will be asked where they fished, how long they fished, what species they caught, and what species they harvested. The information from the interviews and from the mail-in questionnaires will be assessed against the aerial surveys.

The collected information will provide Forest Service resource managers with a means by which to measure and monitor sport fish use on the West Copper River Delta during the peak fishing period and to assist in the management of sport fish use at the individual stream level on the Copper River Delta. The data will be useful to: (1) Focus sport fish related interpretive and educational projects (signs and brochures); (2) focus habitat protection and restoration projects in areas of concentrated use; (3) focus habitat monitoring efforts in areas of concentrated use; (4) identify areas where improved access and or facilities would benefit users or other forest resources (trails, parking areas, fish cleaning stations, etc.); and (5) evaluate special use permit (SUP) needs.

Estimate of Annual Burden: 10 minutes.

Type of Respondents: Individuals who sport fish on the West Copper River Delta.

Estimated Annual Number of Respondents: 3,000.

Estimated Annual Number of Responses per Respondent: 1.

Estimated Total Annual Burden on Respondents: 500 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request for Office of Management and Budget approval.

Dated: May 27, 2004.
Gloria Manning,
Associate Deputy Chief, National Forest System.

[FR Doc. 04-13465 Filed 6-14-04; 8:45 am]

BILLING CODE 3410-11-P